DEPARTMENT OF HEALTH AND HUMAN SERVICES

Substance Abuse and Mental Health Services Administration National Advisory Council; Notice of Meeting

Pursuant to Public Law 92-463, notice is hereby given of the meeting of the Substance Abuse and Mental Health Service Administration's (SAMHSA) National Advisory Council (NAC) on April 17, 2015.

The meeting will include a recap of the April 16, 2015, meeting of the Joint National Advisory Council, an update from the SAMHSA Administrator, and discussions regarding health information technology, delivery system reform, and the ecological model of integration.

The meeting is open to the public and will be held at the SAMHSA building, 1 Choke Cherry Road, Rockville, MD 20850. Attendance by the public will be limited to space available. Interested persons may present data, information, or views, orally or in writing, on issues pending before the Council. Written submissions should be forwarded to the contact person on or before April 7, 2015. Oral presentations from the public will be scheduled at the conclusion of the meeting. Individuals interested in making oral presentations are encouraged to notify the contact on or before April 7, 2015. Five minutes will be allotted for each presentation.

The meeting may be accessed via telephone and web conferencing will be available. To attend on site; obtain the call-in number, access code, and/or web access link; submit written or brief oral comments; or request special accommodations for persons with disabilities, please register on-line at: http://nac.samhsa.gov/Registration/meetingsRegistration.aspx, or communicate with SAMHSA's Committee Management Officer, LCDR Holly Berilla (see contact information below).

Substantive meeting information and a roster of Council members may be obtained either by accessing the SAMHSA Council's Web site at: http://www.samhsa.gov/about-us/advisory-councils/samhsa-national-advisory-council or by contacting LCDR Berilla.

Substantive program information may be obtained after the meeting by accessing the SAMHSA Council's Web site, http://nac.samhsa.gov/, or by contacting LCDR Berilla.

Council Name: Substance Abuse and Mental Health Services Administration National Advisory Council.

Date/Time/Type: April 17, 2015, from 8:30 a.m. to 1:00 p.m. (EDT), Open.

Place: SAMHSA Building, 1 Choke Cherry Road, Rockville, Maryland 20850.

Contact: LCDR Holly Berilla, Committee Management Officer and Designated Federal Officer, SAMHSA National Advisory Council, 1 Choke Cherry Road, Rockville, Maryland 20857 (mail), Telephone: (240) 276-1252, Fax: (240) 276-2252, Email: holly.berilla@samhsa.hhs.gov.

Summer King,
Statistician, SAMHSA.

[FR Doc. 2015-05821 Filed 3-13-15; 8:45 am]

BILLING CODE 4162-20-P